DEPARTMENT OF COMMERCE

National Oceanic and Atmospheric Administration

[I.D. 071904D]

Endangered and Threatened Species; Take of Anadromous Fish

AGENCY: National Marine Fisheries Service (NMFS), National Oceanic and Atmospheric Administration (NOAA), Commerce.

ACTION: Applications for three scientific research permits and one permit modification.

SUMMARY: Notice is hereby given that NMFS has received three scientific research permit applications-and one application to modify an existing permit-relating to Pacific salmon and steelhead. All of the proposed research is intended to increase knowledge of species listed under the Endangered Species Act (ESA) and to help guide management and conservation efforts.

DATES: Comments or requests for a public hearing on the applications or modification requests must be received at the appropriate address or fax number (see ADDRESSES) no later than 5 p.m. Pacific daylight-saving time on August 25, 2004.

ADDRESSES: Written comments on the applications or modification requests should be sent to Protected Resources Division, NMFS, F/NWO3, 525 NE Oregon Street, Suite 500, Portland, OR 97232-2737. Comments may also be sent via fax to 503-230-5435 or by e-mail to resapps.nwr@NOAA.gov. Additionally, comments may be submitted electronically through the Federal e-Rulemaking Portal: http:www.regulations.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species and evolutionarily significant units (ESUs) are covered in this notice:

Sockeye salmon (Oncorhynchus nerka): endangered Snake River (SR).

Chinook salmon (O. tshawytscha): threatened natural and artificially propagated SR spring/summer (spr/sum); threatened SR fall; threatened lower Columbia River (LCR).

Steelhead (O. mykiss): threatened SR; threatened LCR.

Chum Salmon (O. keta): threatened Columbia River (CR).

Authority

Scientific research permits are issued in accordance with section 10(a)(1)(A) of the ESA (16 U.S.C. 1531 et. seq) and regulations governing listed fish and wildlife permits (50 CFR 222-226). NMFS issues permits/modifications based on findings that such permits and modifications: (1) are applied for in good faith; (2) if granted and exercised, would not operate to the disadvantage of the listed species that are the subject of the permit; and (3) are consistent with the purposes and policies of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Applications Received

Permit 1403 - Modification 1

The Northwest Fisheries Science Center is asking to increase the number of juvenile SR spring/summer chinook salmon (natural) and SR steelhead they take annually in the Salmon River subbasin, Idaho. The research encompasses two studies: Assessment of Three Alternative Methods of Nutrient Enhancement (Salmon Carcasses, Carcass Analogues, and Nutrient Pellets) on Biological Communities in Columbia River Tributaries, and Utilization of Nutrients from Spawning Salmon by Juvenile Chinook Salmon and Steelhead in the Columbia and Snake River Basins. The research has many purposes and would benefit listed salmon and steelhead in different ways. In general, the purpose of the research is to (a) learn how salmonids acquire nutrients from the bodies of dead spawners and test three methods of using those nutrients to increase growth and survival among naturally produced salmonids and (b) determine the extent to which juvenile steelhead and chinook use marine-derived nutrients and learn more about the relationships between juvenile salmonid body size, population density, and nutrient uptake. The research would benefit the fish by helping managers use nutrient enhancement techniques to recover listed salmonid populations. Moreover, managers would be able to gain a broader understanding of the role marine-derived nutrients play in ecosystem health as a whole. This, in turn, would help inform management decisions and actions intended to help salmon recovery in the future.

Under these studies, the fish would variously be (a) captured (using seines, nets, traps and, possibly, electrofishing equipment) and anesthetized; (b) measured, weighed, and fin-clipped; (c) held for a time in enclosures in the stream from which they are captured; and (d) released. Both projects call for some juvenile listed fish to be intentionally killed as part of the research. It is also likely that a small percentage of the fish being captured would unintentionally be killed during the process. In addition, tissue samples would be taken from adult carcasses found on streambanks.

Permit 1487

The U.S. Fish and Wildlife Service (FWS) is requesting a 5-year research permit to annually capture, handle, and release juvenile LCR steelhead, LCR chinook salmon, and CR chum salmon. The research would take place in Cedar Creek, a tributary to the Lewis River in Washington State. The purpose of the research is to estimate the abundance and determine migration timing of recently-metamorphosed lamprey and juvenile salmonids. The research would benefit the fish by providing information on the population characteristics and, ultimately, would help managers assess population responses to recovery measures.

The FWS proposes to capture the fish using rotary screw traps. Once captured, the salmonids would be anesthetized, identified to species, checked for marks and tags, allowed to recover, and released. The FWS does not intend to kill any of the fish being captured, but a small percentage may die as an unintended result of the research activities.

Permit 1496

The U.S. Forest Service (USFS) is requesting a 5-year research permit to annually capture, handle, and release adult and juvenile LCR steelhead. The research would take place in Trout Creek, a tributary to the Wind River near Carson, Washington. The purpose of the research is to determine what effects Hemlock Dam has on steelhead migration and survival. The USFS intends to examine steelhead migration patterns, growth, survival, and spatial distribution within Hemlock Reservoir. The research would benefit the fish by providing information on the influence the dam has on parr and fry migration, fish residence time, and fish growth and survival in the reservoir. The results of the study would be included in the Hemlock Dam Environmental Impact Statement and would help managers make recommendations to remedy factors causing fish mortality.

The USFS proposes to observe fish during snorkel surveys and capture fish using temporary weirs, beach seines, and backpack electrofishing equipment. Once captured, the fish would be anesthetized, weighed, and measured. Scale and stomach contents samples would then be taken, and the fish would be tagged with Passive Integrated Transponders, allowed to recover, and released. The USFS does not intend to kill any of the fish being captured, but a small percentage may die as an unintended result of the research activities.

Permit 1500

The University of Idaho (UI) is seeking a 5-year research permit to annually capture, handle, and release juvenile SR sockeye salmon, fall chinook salmon, spr/sum chinook salmon, and steelhead. The research would take place in four reservoirs in the lower Snake River. The purpose of the research is to monitor predator and salmonid use of nearshore habitats in the reservoirs and thereby determine the short-term potential for increasing salmonid productivity through various habitat-restoration activities. The researchers would monitor salmonid habitat use in a number of nearshore areas both before and after restoration activities have taken place. The UI would also monitor habitat use in areas that receive no treatment. The research would benefit listed fish by helping guide habitat restoration efforts in reservoirs across the region. The results of the study would be incorporated into various development and dredge disposal plans throughout the lower Snake River.

The UI proposes to capture the fish using beach seines, minnow traps, and boat electrofishing equipment. The captured fish would be anesthetized, weighed and measured, and released. The UI does not intend to kill any of the fish being captured, but a small percentage may die as an intended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: July 21, 2004.
Susan Pultz,
Acting Chief, Endangered Species Division, Office of Protected Resources, National Marine Fisheries Service.

[FR Doc. 04-16959 Filed 7-23-04; 8:45 am]

BILLING CODE 3510-22-S